GENERAL SERVICES ADMINISTRATION

Privacy Act of 1974; Cancellation of a System of Records

AGENCY: General Services Administration

ACTION: Cancellation of a system of records

SUMMARY: The General Services Administration (GSA) is providing notice of a cancelled record system, Parties Excluded from Federal Procurement and Nonprocurement Program (GSA/OAP-1). The system was replaced by the new system of records GSA/Govt-8 (Excluded Parties List System) which became effective on January 4, 2007.

DATES: Effective: March 1, 2007.

FOR FURTHER INFORMATION: Call or e-mail the GSA Privacy Act Officer: telephone 202-208-1317; e-mail gsa.privacyact@gsa.gov.

ADDRESSES: Comments may be submitted to the Program Manager, Integrated Acquisition Environment Program, Office of the Chief Acquisition Officer, General Services Administration, 2011 Crystal Drive, Suite 911, Arlington, VA 22202.

Dated: February 21, 2007
Cheryl M. Paige
Acting Director, Office of Information Management

GSA/OAP-1

System name:

Parties Excluded from Federal Procurement and Nonprocurement Programs.

System location:

This system of records is located in the Office of Acquisition Policy, General Services Administration, 18th and F Streets NW, Washington, DC.

Categories of individuals covered by the system:

Individuals covered by the system are:

a. Individuals excluded from the Federal procurement or nonprocurement programs by any Federal executive agency, or individual sureties excluded from bid and performance bond activity;

b. Individuals, firms, sureties, or other parties referred to the Office of Acquisition Policy by General Services Administration offices for consideration for debarment or suspension from Federal procurement programs or from acting as individual sureties in procurement programs.

Categories of records in the system:

Records include correspondence from Federal agencies identifying excluded individuals, firms, or parties, and the cause for exclusion from Federal or nonprocurement programs; and case files on individuals, firms, or parties referred to the Office of Acquisition Policy, General Services Administration, to consider for suspension, debarment, or exclusion as a Federal contractor, subcontractor, or an individual surety.

Authority for maintenance of the system:

Federal Property and Administrative Services Act of 1949, as amended, 41 U.S.C. 235b; Federal Acquisition Regulation (FAR) 9.4 and 28.2; Office of Federal Procurement Policy letter 82-1, June 24, 1982; EO 12549, February 18, 1986; and EO 12689, August 16, 1989.

Purpose(s):

To assemble in one system information to insure that: (1) Federal contracts and designated subcontracts are awarded to responsible firms, individuals, and other parties; (2) responsible persons (as defined in agency regulations implementing EO 12549) engage in covered transactions involving Federal financial or nonfinancial assistance programs and benefits; and (3) individual sureties for bid and performance bonds in Federal procurement programs are responsible.

Routine uses of records maintained in the system, including categories of users and the purposes of such uses:

a. To disclose records contracting officers and other Federal, State, and local employees involved in procuring goods and services with Federal funds and/or administering Federal financial or nonfinancial assistance programs or benefits.

b. To disclose records to a Federal, State, local, or foreign agency responsible for investigating, prosecuting, enforcing, or carrying out a statute, rule, regulation, or order, where the records indicate on their face or in conjunction with other records a violation of civil or criminal law and regulation.

c. To disclose records to another Federal agency, a State or local agency that administers Federal financial or nonfinancial assistance programs or benefits, and the records are relevant and necessary to an eligibility determination.

d. To disclose records for the purpose of performing a Federal duty to an expert, consultant, contractor, State or local agency, or financial institution.

e. To disclose information to an appeal, grievance, or formal complaints examiner; equal employment opportunity investigator; arbitrator; exclusive representative; or other official engaged in investigating or settling a grievance, complaint, or appeal filed by an employee, when these records are relevant and necessary to a determination of the issue.

f. To disclose records to a requesting Federal agency in connection with hiring or retaining an employee; issuing a security clearance; reporting an employee investigation; clarifying a job; letting a contract; or issuing a license, grant, or other benefit by the requesting agency where the information is relevant and necessary for a decision on a Federal financial or nonfinancial assistance program or benefit.

g. To disclose records to a member of Congress or a congressional staff member in response to an inquiry from that congressional office made in behalf of a constituent, for information pertaining to that constituent.

h. To disclose records to the Department of Justice when the agency, any agency employee, or the United States is party to or has interest in litigation, and using the records is relevant and necessary for furtherance of the litigation.

i. To disclose information to a court or adjudicative body when the agency, any agency employee, or the United States is party to or has interest in litigation, and using the records is relevant and necessary for the furtherance of the litigation.

Policies and practices for storing, retrieving, accessing, retaining, and disposing of records in the system:

Storage:

Paper records and machine listings in file folders; disc storage in automated electronic system.

Retrievability:

General Services Administration case files are retrieved by case number and name of individual or firm. Correspondence from Federal agencies relating to entries on the “Lists of Parties” (Lists) is retrieved by agency. Information from the Lists automated data base is retrieved by name and address, Taxpayer Identification Number, Dun and Bradstreet Number, and by action agency.

Safeguards:

Paper records stored in lockable filing cabinets or secured rooms. Computerized records protected by I.D./password security system.

Retention and disposal:

Disposal of records is described in the HB, GSA Records Maintenance and Disposition System (OAD P 1820.2).

System manager(s) and address:

Director, Office of GSA Acquisition Policy, General Services Administration (VP), 18th and F Streets NW, Washington, DC 20405.

Notification procedure:

Inquiries from firms, individuals, or parties should be addressed to the system manager.

Record access procedures:

Requests from firms and individuals should be addressed to the system manager as noted above. For identification requirements see the agency regulations outlined in 41 CFR part 105-64.

Contesting record procedures:

General Services Administration rules for contesting the contents and appealing initial decisions are issued in 41 CFR part 105-64.

Record source categories:

Federal agencies and State and local law enforcement officials.

[FR Doc. E7-3579 Filed 2-28-07; 8:45 am]

BILLING CODE 6820-EP-S